DEPARTMENT OF ENERGY

Federal Energy Regulatory Commission

[Docket No. AD17-11-000]

State Policies and Wholesale Markets Operated by ISO New England Inc., New York Independent System Operator, Inc., and PJM Interconnection, L.L.C.; Supplemental Notice of Technical Conference

As announced in a Notice of Technical Conference issued on March 3, 2017, Federal Energy Regulatory Commission (Commission) staff will hold a technical conference on Monday, May 1, 2017, and Tuesday, May 2, 2017, to discuss certain matters affecting wholesale energy and capacity markets operated by the Eastern Regional Transmission Organizations (RTOs) and Independent System Operators (ISOs). Each day, the conference will commence at approximately 9:00 a.m. and end at approximately 5:00 p.m. The conference will be held at the Federal Energy Regulatory Commission, 888 First Street NE., Washington, DC 20426. Commissioners may participate in the conference.

The agenda for this technical conference is attached. Panelists should submit pre-technical conference statements, not to exceed five pages, on or before April 21, 2017, in the above-referenced docket. In lieu of opening remarks, these statements will be available prior to the conference on the Commission's Web site. As stated in the Notice of Technical Conference, Commission staff seeks to discuss long-term expectations regarding the relative roles of wholesale markets and state policies in the Eastern RTOs/ISOs in shaping the quantity and composition of resources needed to cost-effectively meet future reliability and operational needs. To this end, Commission staff asks that panelists focus their statements on the issues raised in the attached agenda. In addition, a schedule for submitting post-technical conference comments will be discussed at the technical conference.

All interested persons may attend the conference, and registration is not required. However, in-person attendees are encouraged to register on-line at: https://www.ferc.gov/whats-new/registration/05-01-17-form.asp.

The technical conference will be transcribed. Transcripts will be available from Ace Reporting Company and may be purchased online at www.acefederal.com, or by phone at (202) 347-3700. In addition, there will be a free webcast of the conference. The webcast will allow persons to listen, but not participate and will be accessible at www.ferc.gov's Calendar of Events. The Capitol Connection provides technical support for the webcast and offers the option of listening to the technical conference via phone-bridge for a fee. If you have any questions, visit www.CapitolConnection.org or call (703) 993-3100.

While this conference is not for the purpose of discussing specific cases, it may address matters at issue in the following Commission proceedings that are pending:

• ISO New England Inc.: See ISO New England Inc., Docket No. ER13-2266-000, et al.; ISO New England Inc., Docket No. ER17-795-000 and ER17-795-001; and ISO New England Inc., Docket No. ER17-1031-000;

• New York Independent System Operator, Inc.: See N.Y. Indep. Sys. Operator, Inc., Docket No. ER16-1404-000; Indep. Power Producers of N.Y., Inc. v. N.Y. Indep. Sys. Operator, Inc., Docket Nos. EL13-62-001 and EL13-62-002; N.Y. Pub. Serv. Comm'n v. N.Y. Indep. Sys. Operator, Inc., Docket No. EL16-92-001; N.Y. Indep. Sys. Operator, Inc., Docket No. ER17-386-002; N.Y. Indep. Sys. Operator, Inc., Docket Nos. ER16-120-001, ER16-120-003, and EL15-37-002;

• PJM Interconnection, L.L.C.: See Calpine Corp., et al. v. PJM Interconnection, L.L.C., Docket No. EL16-49-000; PJM Interconnection, L.L.C., Docket Nos. ER15-623-009, ER15-623-010, EL15-29-006, and EL15-41-002; PJM Interconnection, L.L.C., Docket Nos. ER14-1461-000, ER14-1461-001, ER14-1461-002, EL14-48-000, ER17-367-000, and ER17-367-001.

Commission conferences are accessible under section 508 of the Rehabilitation Act of 1973. For accessibility accommodations please send an email to accessibility@ferc.gov or call toll free (866) 208-3372 (voice) or (202) 502-8659 (TTY), or send a fax to (202) 208-2106 with the requested accommodations.

For further information please contact individuals identified for each topic:

Technical Information: Amr Ibrahim, Office of Energy Policy and Innovation, Federal Energy Regulatory Commission, 888 First Street NE., Washington, DC 20426, (202) 502-6746, amr.ibrahim@ferc.gov.

Legal Information: Gretchen Kershaw, Office of the General Counsel, Federal Energy Regulatory Commission, 888 First Street NE., Washington, DC 20426, (202) 502-8213, gretchen.kershaw@ferc.gov.

Logistical Information: Sarah McKinley, Office of External Affairs, Federal Energy Regulatory Commission, 888 First Street NE., Washington, DC 20426, (202) 502-8368, sarah.mckinley@ferc.gov.

Dated: April 13, 2017.
Kimberly D. Bose,
Secretary.

[FR Doc. 2017-07968 Filed 4-19-17; 8:45 am]

BILLING CODE 6717-01-P